DEPARTMENT OF EDUCATION

Safe and Drug-Free Schools and Communities Advisory Committee

AGENCY: Office of Safe and Drug-Free Schools (ED).

ACTION: Notice of open teleconference meeting.

SUMMARY: This notice sets forth the schedule and proposed agenda of an upcoming open meeting of The Safe and Drug-Free Schools and Communities Advisory Committee. The notice also describes the functions of the Committee. Notice of this meeting is required by section 10(a)(2) of the Federal Advisory Committee Act and is intended to notify the public of their opportunity to attend.

DATES: November 20, 2006.

Time: 2 p.m. est.

ADDRESSES: The Committee will meet by telephone conference call.

FOR FURTHER INFORMATION CONTACT: Catherine Davis, Executive Director, The Safe and Drug-Free Schools and Communities Advisory Committee, Room 1E110B, 400 Maryland Avenue, SW., Washington, DC telephone: (202) 205-4169, e-mail: OSDFSC@ed.gov.

SUPPLEMENTARY INFORMATION: The Committee was established to provide advice to the Secretary on Federal, State and local programs designed to create safe and drug-free schools, and on issues related to crisis planning. The agenda for the November 20th meeting will include follow-up discussions on the October 23-24, 2006 hearing, and focusing on preparation of an interim report recently requested by the Secretary of Education. The October hearing focused on issues relating to the Unsafe School Choice Option and Identification of Persistently Dangerous Schools.

There will not be an opportunity for public comment during this meeting, however the public may listen to the conference call by calling 800-473-8796, and asking for the Teleconference Chairperson: Deborah Price. Individuals who will need accommodations for a disability in order to listen to the meeting may access a TYY line by calling 800-473-8796, and asking for the Teleconference Chairperson: Deborah Price.

Request for Written Comments: We invite the public to submit written comments relevant to the focus of the Advisory Committee. We would like to receive written comments from members of the public no later than April 30, 2007.

Addresses: Submit all comments to the Advisory Committee using one of the following methods: (1) Internet. We encourage the public to submit comments through the Internet to the following address: OSDFSC@ed.gov (2) Mail. The public may also submit your comments via mail to Catherine Davis, Office of Safe and Drug Free Schools, U.S. Department of Education, 400 Maryland Avenue, SW., Room 1E110B, Washington, DC 20202. Due to delays in mail delivery caused by heightened security, please allow adequate time for the mail to be received.

Records are kept of all Committee proceedings and are available for public inspection at the staff office for the Committee from the hours of 9 a.m. to 5 p.m. est.

Ray Simon,
Deputy Secretary, U.S. Department of Education.

[FR Doc. 06-9082 Filed 11-3-06; 8:45 am]

BILLING CODE 4000-01-M